DEPARTMENT OF THE INTERIOR

Fish and Wildlife Service

Notice of Availability of the Draft Comprehensive Conservation Plan and Environmental Assessment for D'Arbonne National Wildlife Refuge in Ouachita and Union Parishes, LA

AGENCY: Fish and Wildlife Service, Interior.

ACTION: Notice of availability.

SUMMARY: The Fish and Wildlife Service announces that a Draft Comprehensive Conservation Plan and Environmental Assessment for D'Arbonne National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing wildlife observation, wildlife photography, and environmental education and interpretation.

Significant issues addressed in the draft plan include: Bottomland hardwood forest management and restoration, integrity of mixed pine and hardwood forests, invasive plants, waterfowl management, neotropical migratory birds, species of concern, and level of visitor services.

DATES: An open house will be held to provide clarification and explanation of the plan to the public. Mailings, a news release to newspapers and radio, and flyers will be used to inform the public of the date and time for the open house. Individuals should comment on the Draft Comprehensive Conservation Plan and Environmental Assessment for D'Arbonne National Wildlife Refuge no later than May 11, 2006.

ADDRESSES: Requests for copies of the draft plan and environmental assessment should be addressed to he Planning Team Leader, D'Arbonne National Wildlife Refuge, 11372 Highway 143, Farmerville, Louisiana 71241; or by calling 318/726-4222, extension 5. The plan and environmental assessment may also be accessed and downloaded from the Service's Internet Web site http://southeast.fws.gov/planning. Comments on the draft plan may be submitted to the above address or via electronic mail to Lindy Garner@fws.gov. Please include your name and return address in your Internet message. Our practice is to make comments, including names and home addresses of respondents, available for public review during regular business hours. Individual respondents may request that we withhold their home addresses from the record, which we will honor to the extent allowable by law.

SUPPLEMENTARY INFORMATION: The Service developed three alternatives for managing the refuge and chose Alternative A as the preferred alternative.

Alternatives

Alternative A, the preferred alternative, emphasizes management actions that mimic or enhance natural ecological processes. The biological program would be enhanced with an increase in inventory and monitoring programs so that adaptive management could be more effectively implemented. Adaptive management would primarily benefit migratory bird management and forest management. Migratory bird use and nesting success on the refuge would be closely evaluated utilizing research partnerships. Partnerships would be developed to establish scientifically valid protocols and collaborative research projects for data that would provide information on flora and fauna response to habitat management. Upland forest management would focus on restoring the biological integrity of a mixed pine and hardwood forest by reintroducing a more historic fire regime, while still providing minimum red-cockaded woodpecker habitat as required in the recovery guidelines. A historic fire regime will ultimately benefit red-cockaded woodpeckers by creating a more herbaceous understory. Bottomland hardwood forest management would include an increase in inventory data that would better define current forest condition, and allow an increase in the number of acres treated. Treatment would open the canopy cover (i.e., decrease basal area) and increase understory vegetation. The open field would modify the natural ecological process in order to maintain it in a grassy field unit and moist-soil unit for this specialized habitat required for high priority species. Water control structures and pumping capability would be maintained to enhance moist-soil management for the benefit of wintering waterfowl. Invasive species would be mapped and protocols established for a more intensive control effort. Partnerships would continue to be fostered for several biological programs, hunting regulations, law enforcement issues, and research projects.

Public use would be similar to current management. Deer hunting would be allowed while monitoring the availability, diversity, and deer use of understory woody and herbaceous plants. This would allow the refuge to better understand the pressure being exerted on the habitat, and therefore make better habitat and harvest recommendations. Youths would be allowed to hunt turkey. Fishing events and boat launch facilities would be improved. Environmental education, wildlife observation, and wildlife photography would be accommodated at present levels, with minimal disturbance to wildlife and habitat. An enhanced, interpretive nature trail, interpretive panels, and “check-out kits” for teachers would be developed. Law enforcement would work to gain better compliance with refuge regulations.

Alternative B would focus resources toward obtaining biological information derived from inventorying and monitoring, while providing an artificial habitat for a diversity of wildlife that emphasizes red-cockaded woodpeckers. Funding and staffing would be directed to these priorities, resulting in a reduction of visitor services. The biological program would be enhanced for extensive baseline inventorying and monitoring. Partners would be sought to help with the information needs for current condition of refuge habitat and monitoring for changes in wildlife trends. Additional research projects would be implemented by granting opportunities and partnerships with other agencies and universities. Upland forest management would focus on red-cockaded woodpecker guidelines for minimizing hardwoods and maintaining a grassy understory in the entire mixed-pine and upland forests, resulting in an intensive prescribed burning program and the monitoring of forest conditions. Bottomland hardwood forest management would be developed on an intensive inventory to define current condition, and management would be limited to monitoring natural successional changes. The open field would be allowed to go through natural succession to bottomland hardwood forest and the moist-soil unit and open grassy field unit would not be maintained. Invasive plant control would become a priority for the foresters and biologists to establish baseline information of location and density and protocols for control. Partnerships would continue to be fostered for several biological programs, hunting regulations, law enforcement issues, and research projects.

Public use would be limited, with custodial-level maintenance. Public use would be monitored more closely for impacts to wildlife, and, with negative impacts, new restrictions or closures would result. Deer hunting would be allowed when data were available to demonstrate the population was exceeding the habitat carrying capacity and a population reduction was necessary. An extensive survey for monitoring the deer population and its association with the habitat condition would be implemented. Several species (e.g., quail, woodcock, feral hogs, and coyotes) would no longer be hunted due to low population counts and the cost of providing oversight and law enforcement to conduct the hunts. Fishing would continue as under current management on Bayou D'Arbonne, but the area of overflow in the open field would be closed. Fishing would not be allowed during the wintering period and would be monitored for future impacts. Environmental education, wildlife observation, and wildlife photography would be accommodated at present levels, but public access would be limited to July-October and February-April to minimize disturbance to migratory birds.

Alternative C would continue current management and public use. Refuge management programs would continue to be developed and implemented, with limited baseline biological information and limited monitoring. Wildlife surveys would still be completed for presence and absence of species and to alert refuge staff to large-scale changes in population trends. Cooperation with partners for monitoring waterfowl, eagle, fish, and deer herd surveys would continue. Upland forest management would continue focusing on red-cockaded woodpecker guidelines for minimizing hardwoods and maintaining a grassy understory in a portion of the mixed pine and upland forests. Bottomland hardwood forest management would continue at current rate of thinning for a closed canopy forest and at retaining as much water tupelo and bald cypress as possible. The open field area, where flooding occurs from overflow of Bayou D'Arbonne, would be maintained as a moist-soil unit, with mowing outside of the levee to provide an open grassy field. A third of the open field area would continue on natural reforestation. Management for invasive plants would continue with opportunistic mapping and treatment. Partnerships would continue with Louisiana Department of Wildlife and Fisheries for several biological programs, hunting regulations, and law enforcement issues. The Partners for Fish and Wildlife Program would still develop projects with interested parties for carbon sequestration and invasive plant control.

Hunting and fishing would continue to be the priority focus of public use on the refuge, with no expansion of current opportunities. Environmental education, wildlife observation, and wildlife photography would be accommodated at present levels, with a few interpretive sites added.

D'Arbonne National Wildlife Refuge, established in 1975, is located within the Lower Mississippi River floodplain in north Louisiana, approximately 6 miles north of West Monroe, Louisiana. The refuge's 17,421 acres include deep overflow swamp, bottomland hardwood forest, and upland mixed-pine/hardwoods in Union and Ouachita Parishes. D'Arbonne refuge provides habitat for thousands of wintering waterfowl, wading and waterbirds, and year-round habitat for nesting wood ducks, squirrel, deer, river otters, and raccoon. Hunting and fishing opportunities are permitted on most areas of the refuge, which is open year-round for wildlife observation, nature photography, and hiking.

Authority: This notice is published under the authority of the National Wildlife Refuge System Improvement Act of 1977, Public Law 105-57.

Dated: January 23, 2006.
Cynthia K. Dohner,
Acting Regional Director.

[FR Doc. 06-3443 Filed 4-10-06; 8:45 am]

BILLING CODE 4310-55-M